DEPARTMENT OF DEFENSE

Department of the Army

Notice of Intended Disinterment; Correction

AGENCY: Department of the Army, DoD.

ACTION: Notice of intended disinterment; correction.

SUMMARY: This document corrects the previous notice published in the Federal Register on February 14, 2022. The notice respectively corrects the total number of names from 6 to 8 students.

DATES: The disinterment is scheduled to begin on June 6, 2022. Transportation to and re-interment in private cemeteries will take place as soon as practical after the disinterment. If other living relatives object to the disinterment of these remains, please provide written objection to Captain Travis Fulmore at the email addresses listed below prior to May 1st, 2022. Such objections may delay the disinterment for the decedent in question.

ADDRESSES: Objections from family members and public comments can be mailed to Captain Travis Fulmore, OAC Project Manager, 1 Memorial Avenue, Arlington, VA 22211 or emailed to usarmy.pentagon.hqda-anmc.mbx.accountability-coe@mail.mil (preferred).

FOR FURTHER INFORMATION CONTACT: Captain Travis Fulmore OAC Project Manager, (703) 695-3570 or at the email address listed above.

SUPPLEMENTARY INFORMATION:

Correction

In the Federal Register of February 14, 2022, in FR Doc. 2022-03111, on page 8238, in the first column, correct the Summary caption to read:

SUMMARY: The Office of Army Cemeteries (OAC) is honoring the requests of the family members to disinter the human remains of 8 Native American students from the Carlisle Barracks Post Cemetery, Carlisle, Pennsylvania. The decedent names are: Raleigh James from the Washoe tribe, Lottie Sireech from the Ute tribe, Wade Ayres from the Catawba tribe, Anatasia Achwak (Ashowak) and Anna Vereskin from the Alaskan (Aleut) tribe, Frank Green and Paul Wheelock from the Oneida tribe and Ellen Macy from the Umqua tribe. These students died between 1880 and 1910 while attending the Carlisle Indian Industrial School. OAC has received written requests for disinterment from the closest living descendent of each of the 8 individuals. OAC will disinter and facilitate the transport and reinternment of the remains to private cemeteries chosen by the families at government expense. This disinterment will be conducted under the authority of Army Regulation 290-5, in accordance with the Native American Graves Protection and Repatriation (NAGPRA) savings clauses at 25 U.S. Code § 3009. Individually marked graves located within the Carlisle Barracks Post Cemetery do not constitute “holdings or collections” of the Army (§ 3003(a)) nor does NAGPRA (§ 3002) require the Army to engage in the intentional excavation or exhumation of a grave.

James W. Satterwhite Jr.,
Army Federal Register Liaison Officer.

[FR Doc. 2022-08582 Filed 4-21-22; 8:45 am]

BILLING CODE 3711-02-P